DEPARTMENT OF AGRICULTURE

Food Safety and Inspection Service

9 CFR Parts 331 and 381

[Docket No. 02-028F]

Termination of Designation of the State of Maine With Respect to the Inspection of Meat and Meat Food Products and Poultry and Poultry Food Products

AGENCY: Food Safety and Inspection Service, USDA.

ACTION: Direct final rule and termination of designation.

SUMMARY: This direct final rule amends the Federal meat and poultry products inspection regulations by terminating the designation of the State of Maine under Titles I, II, and IV of the Federal Meat Inspection Act (FMIA) and under sections 1 through 4, 6 through 11, and 12 through 22 of the Poultry Products Inspection Act (PPIA).

DATES: This direct final rule will be effective November 1, 2002 unless FSIS receives written adverse comments within the scope of this rulemaking or written notice of intent to submit adverse comments within the scope of this rulemaking on or before October 23, 2002. If FSIS receives adverse comments, a timely withdrawal will be published in the Federal Register informing the public that the rule will not take effect.

FOR FURTHER INFORMATION CONTACT: Dr. William Leese, 202 418-8900, william.leese@fsis.usda.gov.

SUPPLEMENTARY INFORMATION:

Background

Section 301(c) of the FMIA (21 U.S.C. 661(c)) and section 5(c) of the PPIA (21 U.S.C. 454(c)) authorize the Secretary of Agriculture (Secretary) to designate a State as one in which the provisions of Titles I and IV of the FMIA and sections 1-4, 6-11, and 12-22 of the PPIA will apply to operations and transactions wholly within the State after the Secretary has determined that requirements at least equal to those imposed under the Acts have not been developed and effectively enforced by the State.

At different times in the past, the Secretary designated the State of Maine under section 301(c) of the FMIA and section 5(c) of the PPIA as a State in which the Federal Government is responsible for providing meat and poultry products inspection at eligible establishments and for otherwise enforcing the applicable provisions of the FMIA and the PPIA with regard to intrastate activities in the State. These designations were undertaken by the Secretary when it was determined that the State of Maine was not in a position to enforce requirements that are at least equal to the requirements of FMIA and PPIA enforced by the Federal Government.

On January 2, 1971, the Federal Government assumed the responsibility of administering the authorities provided for under sections 11(b) and (c) of the PPIA (21 U.S.C. 460(b) and (c)). On May 12, 1980, the Federal Government assumed the responsibility of administering the authorities provided for under sections 202 and 203 of the FMIA (21 U.S.C. 642 and 643).

The Director of Agriculture of the State of Maine has advised FSIS that on October 17, 2002, the State of Maine will publish regulations declaring that it will administer a State meat and poultry products inspection program that includes requirements at least equal to those imposed under the Federal meat and poultry products inspection program.

Section 301(c) of the FMIA and section 5(c) of the PPIA provide that whenever the Secretary of Agriculture determines that any designated State has developed and will enforce State meat and poultry products inspection requirements at least equal to those imposed by the Federal Government under the FMIA and the PPIA with regard to intrastate operations and transactions, the Secretary will terminate the designation of such State. The Secretary has determined that the State of Maine has developed, and will enforce, such a State meat and poultry products inspection program in accordance with the applicable provisions of the FMIA and the PPIA.

Establishments have the option to apply for Federal or State inspection. However, product produced under State inspection is limited to distribution in intrastate commerce.

Executive Order 12866

This final rule is issued in conformance with Executive Order 12886 and has been determined not to be a major rule. It will not result in an annual effect on the economy of $100 million or more and will not adversely affect the economy or any segment of the economy. Because this final rule is not a significant rule under Executive Order 12866, it has not undergone review by the Office of Management and Budget.

Effect on Small Entities

The FSIS Administrator has determined that this action will not have a significant economic impact on a substantial number of small entities, as defined by the Regulatory Flexibility Act (Pub. L. 96-354; 6 U.S.C. 601). As stated above, the State of Maine is assuming a responsibility, previously limited to the Federal Government, of administering a meat and poultry products inspection program for intrastate operations and transactions.

Additional Public Notification

FSIS has considered the potential civil rights impact of this final rule on minorities, women, and persons with disabilities. Public involvement in all segments of rulemaking and policy development is important. Consequently, in an effort to better ensure that minorities, women, and persons with disabilities are aware of this rulemaking, FSIS will announce it and provide copies of this Federal Register publication in the FSIS Constituent Update. FSIS provides a weekly Constituent Update, which is communicated via Listserv, a free e-mail subscription service. In addition, the update is available on-line through the FSIS web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the FSIS web site at http://www.fsis.usda.gov/oa/update/update.htm. Click on the “Subscribe to the Constituent Update Listserv” link, then fill out and submit the form.

List of Subjects

9 CFR Part 331

Meat inspection.

9 CFR Part 381

Poultry and poultry products.

Accordingly, 9 CFR parts 331 and 381 are amended as follows:

PART 331—[AMENDED]

1. The authority citation for part 331 continues to read as follows:

Authority: 21 U.S.C. 601-695; 7 CFR 2.17, 2.55.

§ 331.2 [Amended]

2. The table in § 331.2 is amended by removing “Maine” from the “State” column and by removing the corresponding date.

§ 331.6 [Amended]

3. The table in § 331.6 is amended by removing “Maine” from the “State” column in three places and by removing the corresponding dates.

PART 381—[AMENDED]

4. The authority citation for part 381 continues to read as follows:

Authority: 7 U.S.C. 138F; 7 U.S.C. 450; 21 U.S.C. 451-470; 7 CFR 2.18, 2.53.

§ 381.221 [Amended]

5. The table in § 381.221 is amended by removing “Maine” from the “States” column and by removing the corresponding date.

§ 381.224 [Amended]

6. The table in § 381.224 is amended by removing “Maine” from the “State” column in three places and by removing the corresponding dates.

Done in Washington, DC on September 25, 2002.
Garry L. McKee,
Administrator.

[FR Doc. 02-24979 Filed 10-1-02; 8:45 am]

BILLING CODE 3410-DM-P